OFFICE OF THE UNITED STATES TRADE REPRESENTATIVE

Notice of Meeting of the Industry Sector Advisory Committee on Services (ISAC-13)

AGENCY: Office of the United States Trade Representative.

ACTION: Notice of Meeting.

SUMMARY: The Industry Sector Advisory Committee on Services (ISAC-13) will hold a meeting on March 20, 2001, from 9:00 a.m. to 12:00 noon. The meeting will be opened to the public from 9:00 a.m. to 9:45 a.m. and closed to the public from 9:45 a.m. to 12:00 noon.

DATES: The meeting is scheduled for March 19, 2001, unless otherwise notified.

ADDRESSES: The meeting will be held at the Department of Commerce, Conference Room 6057, located at 14th Street between Pennsylvania and Constitution Avenues, NW., Washington, DC.

FOR FURTHER INFORMATION CONTACT: Karen Holderman, (202) 482-4792, Department of Commerce, 14th Street and Constitution Avenue, NW., Washington, DC 20230 (principal contact), or myself on (202) 395-6120.

SUPPLEMENTARY INFORMATION: During the opened portion of the meeting the following topics will be covered:

• Services Statistics;

• Overview of WTO General Agreement on Trade in Services (GATS) Negotiations

Christina Sevilla,
Acting Assistant United States Trade Representative for Intergovernmental Affairs and Public Liaison.

[FR Doc. 01-6348 Filed 3-13-01; 8:45 am]

BILLING CODE 3190-01-M